DEPARTMENT OF DEFENSE

Office of the Secretary

[Docket ID: DOD-2012-OS-0084]

Privacy Act of 1974; System of Records

AGENCY: Office of the Secretary, DoD.

ACTION: Notice to add a new system of records.

SUMMARY: The Office of the Secretary of Defense proposes to add a new system of records in its inventory of record systems subject to the Privacy Act of 1974 (5 U.S.C. 552a), as amended.

DATES: This proposed action will be effective on August 10, 2012 unless comments are received which result in a contrary determination.

ADDRESSES: You may submit comments, identified by docket number and title, by any of the following methods:

• Federal Rulemaking Portal: http://www.regulations.gov. Follow the instructions for submitting comments.

• Mail: Federal Docket Management System Office, 4800 Mark Center Drive, East Tower, 2nd Floor, Suite 02G09, Alexandria, VA 22350-3100.

Instructions: All submissions received must include the agency name and docket number for this Federal Register document. The general policy for comments and other submissions from members of the public is to make these submissions available for public viewing on the Internet at http://www.regulations.gov as they are received without change, including any personal identifiers or contact information.

FOR FURTHER INFORMATION CONTACT: Cindy Allard, Chief, OSD/JS Privacy Office, Freedom of Information Directorate, Washington Headquarters Services, 1155 Defense Pentagon, Washington, DC 20301-1155, or by phone at (571) 372-0461.

SUPPLEMENTARY INFORMATION: The Office of the Secretary of Defense notices for systems of records subject to the Privacy Act of 1974 (5 U.S.C. 552a), as amended, have been published in the Federal Register and are available from the address in FOR FURTHER INFORMATION CONTACT. The proposed system report, as required by 5 U.S.C. 552a(r) of the Privacy Act of 1974, as amended, was submitted on June 27, 2012, to the House Committee on Oversight and Government Reform, the Senate Committee on Governmental Affairs, and the Office of Management and Budget (OMB) pursuant to paragraph 4c of Appendix I to OMB Circular No. A-130, “Federal Agency Responsibilities for Maintaining Records About Individuals,” dated February 8, 1996 (February 20, 1996, 61 FR 6427).

Dated: July 5, 2012.
Aaron Siegel,
Alternate OSD Federal Register Liaison Officer, Department of Defense.

DHRA 10 DoD

System name:

Defense Sexual Assault Advocate Certification Program.

System location:

National Organization for Victim Assistance, 510 King Street, Suite 424, Alexandria, VA 22314-3132.

Categories of individuals covered by the system:

DoD civilian employees and military personnel requesting national certification as a victim advocate through the National Advocate Credentialing Program.

Categories of records in the system:

Applicant's first name, middle initial, and last name; position (Sexual Assault Response Coordinator (SARC) or Sexual Assault Prevention Representative Victim Advocate (SAPR VA)); Service affiliation; Grade/Rank; Installation/Command; Installation/Command/Agency address (street, city, state, ZIP code, country); work email address; work telephone number; level to which applicant is applying (Level I, II, III, or IV); certificates of training; Memoranda of Recommendation from the first person in the chain of command or SARC, and the Senior Commander or Commander; date of application; dates the Applicant provided service as SARC or SAPR VA (or as a victim advocate); and the opinions and evaluation of a 12-question performance questionnaire, represented by “yes” or “no” answers and short comments and certification number issued.

Authority for maintenance of the system:

10 U.S.C. 1561 note, Sexual Assault Response Coordinators and Sexual Assault Victim Advocates; 10 U.S.C. 136, Under Secretary of Defense for Personnel and Readiness; DoD Directive 6495.01, Sexual Assault Prevention and Response (SAPR) Program; DoD Instruction 6495.02, Sexual Assault Prevention and Response (SAPR) Program Procedures.

Purpose(s):

To track the certification of SARC and SAPR VAs. Information will be used to review, process, and report on the status of SARC and SAPR VA certification to Congress.

Routine uses of records maintained in the system, including categories of users and the purposes of such uses:

In addition to those disclosures generally permitted under 5 U.S.C. 552a(b) of the Privacy Act of 1974, these records may specifically be disclosed outside the DoD as a routine use pursuant to 5 U.S.C. 552a(b)(3) as follows:

Any release of information contained in this system of records outside the DoD under a routine use will be compatible with the purpose(s) for which the information is collected and maintained. The DoD “Blanket Routine Uses” set forth at the beginning of Office of the Secretary of Defense (OSD) systems of records notices may apply to this system.

Policies and practices for storing, retrieving, accessing, retaining, and disposing of records in the system:

Storage:

Paper files and electronic media.

Retrievability:

Applicant records are retrieved by first name, middle initial, last name, installation/command, Military Service affiliation, rank/grade, position, certification level, and/or certification number.

Safeguards:

Records are maintained in a controlled facility that employs physical restrictions such as double locks and is accessible only to authorized persons who hold key fobs. Access to electronic data files in the system is role-based, restricted to essential personnel only, and requires the use of a password. The data server is locked in a windowless room with restricted access. Data is encrypted at rest, and backup data is encrypted and removed to a different secure location for storage. Paper files are stored in a locked filing cabinet in a locked room in the controlled facility. Access to paper files is restricted to those with authorized access. All records are accessible only to authorized persons with a need-to-know basis who are properly screened, cleared and trained.

Retention and Disposal:

Disposition pending (until the National Archives and Records Administration approves a retention and disposal schedule, records will be treated as permanent).

System Manager(s) and Address:

Sexual Assault Prevention and Response Office, ATTN: Defense Sexual Assault Incident Database Program Manager, 4800 Mark Center Drive, Room 07G21, Alexandria, VA 22350-1500.

Notification Procedure:

Individuals seeking to determine whether information about themselves is contained in this system of records should address written inquiries to the Sexual Assault Prevention and Response Office, ATTN: D-SAACP Manager, 4800 Mark Center Drive, Room 07G21, Alexandria, VA 22350-1500.

Requests must be signed and should contain first name, middle initial, last name, rank/grade, Service affiliation, installation/command, certification level, and certification number.

Record Access Procedures:

Individuals seeking access to records about themselves contained in this system of records should address written inquiries to the Office of the Secretary of Defense/Joint Staff Freedom of Information Act Requester Service Center, 1155 Defense Pentagon, Washington, DC 20301-1155.

Requests must be signed and should contain first name, middle initial, last name, rank/grade, Service affiliation, installation/command, certification level, and certification number.

Contesting Record Procedures:

The OSD rules for accessing records for contesting contents and appealing initial agency determinations are contained in OSD Administrative Instruction 81; 32 Code of Federal Regulations part 311; or may be obtained from the system manager.

Record Source Categories:

The individual, first person in chain of command or SARC and the Senior Commander or Commander, and the National Advocate Credentialing Program.

Exemptions Claimed for the System:

None.

[FR Doc. 2012-16871 Filed 7-10-12; 8:45 am]

BILLING CODE 5001-06-P